DEPARTMENT OF COMMERCE

National Oceanic and Atmospheric Administration

New England Fishery Management Council; Public Meeting

AGENCY: National Marine Fisheries Service (NMFS), National Oceanic and Atmospheric Administration (NOAA), Commerce.

ACTION: Notice; public meeting.

SUMMARY: The New England Fishery Management Council (Council), Sea Scallop Committee, Advisory Panel and PDT are scheduling an inshore Atlantic Sea Scallop Fishing Industry workshop to consider actions affecting New England fisheries in the exclusive economic zone (EEZ).

DATES: This meeting will be held on Monday, February 22 and Tuesday, February 23, 2016, beginning at 8:30 a.m. both days.

ADDRESSES: The workshop will be held at the Crowne Plaza, 801 Greenwich Ave., Warwick, RI 02886; telephone: (401) 732-6000.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Workshop Agenda

The Council is hosting a workshop to provide an opportunity for participants in the scallop fishery to discuss concerns raised by some about the consequences of inshore scallop fishing practices. The workshop will support constructive and open dialogue between all users of the resource, scientific experts, fishery managers, and interested members of the public. In accordance with section 302(g)(2) of the Magnuson-Stevens Act, this workshop is considered to be an ad hoc advisory panel. Any recommendations made by this panel will be forwarded to the Council's Scallop Advisory Panel and Oversight Committee for full consideration.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: January 28, 2016.
Tracey L. Thompson,
Acting Deputy Director, Office of Sustainable Fisheries, National Marine Fisheries Service.

[FR Doc. 2016-01842 Filed 2-1-16; 8:45 am]

BILLING CODE 3510-22-P